DEPARTMENT OF COMMERCE

International Trade Administration

A-570-875

Extension of Time Limit for the Preliminary Results of the Antidumping Duty Administrative Review: Non-Malleable Cast Iron Pipe Fittings from the People's Republic of China

AGENCY: Import Administration, International Trade Administration, Department of Commerce.

EFFECTIVE DATE: December 2, 2005.

FOR FURTHER INFORMATION CONTACT: Michael Holton or Will Dickerson, AD/CVD Operations, Office 8, Import Administration, International Trade Administration, U.S. Department of Commerce, 14th Street and Constitution Avenue, NW, Washington, DC 20230; telephone: (202) 482-1324, or 482-1778, respectively.

SUPPLEMENTARY INFORMATION:

Background

On April 1, 2005, the Department published in the Federal Register a notice for an opportunity to request an administrative review of non-malleable cast iron pipe fittings from the People's Republic of China (“PRC”). See Antidumping or Countervailing Duty Order, Finding, or Suspended Investigation; Opportunity to Request Administrative Review, 70 FR 16799 (April 1, 2005). As a result of a request for a review filed by Myland Industrial Co., Ltd. and Buxin Myland (Foundry) Ltd. (collectively “Myland”) on April 25, 2005, the Department published in the Federal Register a notice of the initiation of the antidumping duty administrative review of non-malleable cast iron pipe fittings from the PRC for the period April 1, 2004, through March 31, 2005. See Initiation of Antidumping and Countervailing Duty Administrative Reviews and Request for Revocation in Part, 70 FR 30694 (May 27, 2005). The preliminary results of review are currently due no later than December 31, 2005.

Extension of Time Limit of Preliminary Results

Section 751(a)(3)(A) of the Tariff Act of 1930, as amended (“the Act”), requires the Department to issue preliminary results within 245 days after the last day of the anniversary month of an order. However, if it is not practicable to complete the review within this time period, section 751(a)(3)(A) of the Act allows the Department to extend the time period to a maximum of 365 days. Completion of the preliminary results of this review within the 245-day period is not practicable because the Department needs additional time to analyze information pertaining to the respondent's sales practices, factors of production, and corporate relationships, to evaluate certain issues raised by the petitioners, and to issue and review responses to supplemental questionnaires.

Because it is not practicable to complete this review within the time specified under the Act, we are fully extending the time period for issuing the preliminary results of review by 120 days until April 30, 2006, in accordance with section 751(a)(3)(A) of the Act. Further, because April 30, 2006, falls on a Sunday, the preliminary results will be due on May 1, 2006, the next business day. The final results continue to be due 120 days after the publication of the preliminary results. This notice is published pursuant to sections 751(a) and 777(i) of the Act.

Dated: November 28, 2005.
Stephen J. Claeys,
Deputy Assistant Secretary for Import Administration.

[FR Doc. 05-23562 Filed 12-1-05; 8:45 am]

BILLING CODE 3510-DS-S